DEPARTMENT OF LABOR

Office of the Secretary

Submission for OMB Review; Comment Request

January 23, 2003.

The Department of Labor (DOL) has submitted the following public information collection request (ICR) to the Office of Management and Budget (OMB) for review and approval in accordance with the Paperwork Reduction Act of 1995 (Pub. L. 104-13, 44 U.S.C. chapter 35). A copy of each individual ICR, with applicable supporting documentation, may be obtained by calling the Department of Labor. To obtain documentation contact Marlene Howze at (202) 693-4158 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Notice of Final Payment or Suspension of Compensation Benefits.

OMB Number: 1215-0024.

Affected Public: Business or other for-profit.

Frequency: On occasion.

Number of Respondents: 500.

Number of Annual Responses: 18,950.

Estimated Time Per Response: 15 minutes.

Total Burden Hours: 4,738.

Total Annualized Capital/Startup Costs: 0.

Total Annual Costs (operating/maintaining systems or purchasing services): $10,620.00.

Description: The Office of Workers' Compensation Program (OWCP) administers the Longshore and Harbor Workers' Compensation Act. This Act provides benefits to workers inquired in maritime employment on the navigable waters of the United States or in an adjoining area customarily used by an employer in loading, unloading, repairing, or building a vessel. Under section 14(g) of the Act, the employer or its insurance carrier must file a report of the compensation paid to a claimant at the time final payment is made. The Act requires that the report (Form LS-208) be filed within 16 days of the final payment of compensation with the District Director in the compensation district in which the injury occurred. Filing of the report is mandatory as failure to do so is subject to a civil penalty.

Ira L. Mills,
Departmental Clearance Officer.

[FR Doc. 03-2287 Filed 1-30-03; 8:45 am]

BILLING CODE 1510-CF-M